DEPARTMENT OF TRANSPORTATION

Federal Aviation Administration

14 CFR Part 39

[Docket No. FAA-2013-0477; Directorate Identifier 2011-SW-015-AD]

RIN 2120-AA64

Airworthiness Directives; Eurocopter France (Eurocopter) Model Helicopters

AGENCY: Federal Aviation Administration, DOT.

ACTION: Notice of proposed rulemaking (NPRM).

SUMMARY: We propose to supersede an existing airworthiness directive (AD) for Eurocopter Model AS350B, BA, B1, B2, C, D, and D1 helicopters and Model AS355E, F, F1, F2, and N helicopters with certain part-numbered tail gearbox (TGB) control levers installed. The existing AD currently requires repetitive visual inspections of the TGB control lever for a crack and replacing a cracked TGB control lever with an airworthy TGB control lever. Since we issued that AD, we have received reports of cracking on the opposite area of the TGB control lever. This proposed AD would retain the current requirements and would also require inspecting other areas of the TGB control lever not previously inspected and at additional inspection intervals. The proposed actions are intended to prevent failure of the TGB control lever, loss of tail rotor control, and subsequent loss of control of the helicopter.

DATES: We must receive comments on this proposed AD by August 16, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub.

You may review service information at the FAA, Office of the Regional Counsel, Southwest Region, 2601 Meacham Blvd., Room 663, Fort Worth, Texas 76137.

FOR FURTHER INFORMATION CONTACT: Robert Grant, Aviation Safety Engineer, Rotorcraft Directorate, Safety Management Group, 2601 Meacham Blvd., Fort Worth, TX 76137, telephone 817-222-5110, email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On August 2, 2010, we issued AD 2010-11-51, Amendment 39-16396 (75 FR 50874, August 18, 2010) for Eurocopter Model AS350B, BA, B1, B2, C, D, and D1 helicopters and Model AS355E, F, F1, F2, and N helicopters with certain part-numbered TGB control levers installed. AD 2010-11-51 requires repetitive visual inspections of the TGB control lever for a crack and replacing a cracked TGB control lever with an airworthy TGB control lever. AD 2010-11-51 also contains optional terminating actions for the inspection requirements by either replacing a TBG control lever with an airworthy TGB control lever that is marked with an “X” near the part number, or stripping and dye-penetrant inspecting the rework area for a crack and either requires reworking and marking the TGB control lever if there is no crack or removing and replacing the cracked TGB control lever if there is a crack. AD 2010-11-51 was prompted by Emergency AD No. 2010-0082-E, dated April 27, 2010, and corrected April 28, 2010 (AD No. 2010-0082-E), issued by the European Aviation Safety Agency (EASA), which is the Technical Agent for Member States of the European Union. The actions in AD 2010-11-51 are intended to prevent failure of the TGB control lever, loss of tail rotor control, and subsequent loss of control of the helicopter.

Actions Since Existing AD Was Issued

Since we issued AD 2010-11-51 (75 FR 50874, August 18, 2010), we have received reports of cracking in a TGB control lever on the area opposite the area required to be inspected. EASA has issued EASA Emergency AD No. 2011-0038-E, dated March 4, 2011 (AD No. 2011-0038-E), and superseding EASA Emergency AD No. 2010-0082-E, to correct an unsafe condition for the specified Eurocopter model. EASA advises that since issuing EASA Emergency AD No. 2010-0082-E, Eurocopter found cracks on the area opposite the area required to be inspected on the affected control levers. EASA Emergency AD No. 2011-0038-E retains the requirements of EASA Emergency AD No. 2010-082-E and adds repetitive inspections for the area opposite the control levers.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other helicopters of these same type designs.

Related Service Information

Eurocopter has issued one Eurocopter Emergency Alert Service Bulletin (EASB), Revision 2, dated February 28, 2011, with four different numbers. EASB No. 05.00.62 is for Model AS350 helicopters; EASB No. 05.00.57 is for Model AS355 helicopters; EASB No. 05.00.38 is for military Model AS550 helicopters; and EASB No. 05.00.35 is for military Model AS555 helicopters. The military models are not type-certificated in the United States. The EASB specifies visually inspecting the TGB control lever for a crack at the last flight of each day, without exceeding 10 flying hours between inspections. The EASB also describes a rework procedure for affected TGB control levers, which must be done within 660 flying hours and no later than June 30, 2011. Completion of the rework procedure is indicated by marking the control lever with a letter “X.” EASA classified this EASB as mandatory and issued AD No. 2011-0038-E to ensure the continued airworthiness of these helicopters.

Proposed AD Requirements

This proposed AD would retain the requirements in AD 2010-11-51 (75 FR 50874, August 18, 2010) to perform repetitive visual inspections in a certain area on each TGB control lever not marked with an “X” and would require replacing a cracked part with a part not listed in the applicability paragraph of the AD. This proposed AD would also require inspecting another area of each TGB control lever at additional inspection intervals. Also, this proposed AD would require, within a specified time, replacing each TGB control lever with a reworked TGB control lever marked with an “X” near the P/N or with a TGB control lever with a P/N not listed in the applicability of the AD.

Differences Between This Proposed AD and the EASA AD

This AD differs from EASA Emergency AD No. 2011-0038-E as follows:

• We include the Eurocopter Model AS350C and AS350D1 helicopters that may contain the affected TGB control lever. We do not include the Eurocopter Model AS350BB helicopter because it is not type-certificated in the United States.

• We do not require an “after last flight”of the day inspection.

• We do not allow a pilot to inspect for a crack.

• We do not require reworking noninstalled control levers.

• We do not include a calendar compliance time for reworking the TGB control lever if there is not a crack.

• We do not require you to contact Eurocopter if a crack is found during any inspection.

Costs of Compliance

We estimate that this proposed AD would affect 791 helicopters of U.S. registry. We estimate that operators may incur the following costs in order to comply with this proposed AD: The initial and repetitive inspections for a crack in the TGB control lever would take a minimal amount of time. If necessary, replacing a control lever would take about 3 work hours at an average labor rate of $85 per work hour. The required parts would cost about $2,103 per helicopter. Based on these figures, we estimate the total cost of the proposed AD on U.S. operators would be $2,358 per helicopter to replace the control lever.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-11-51, Amendment 39-16396 (75 FR 50874, August 18, 2010), and adding the following new AD:

Eurocopter France: Docket No. FAA-2013-0477; Directorate Identifier 2011-SW-015-AD.

(a) Applicability

This AD applies to Model AS350B, BA, B1, B2, C, D, and D1 helicopters and Model AS355E, F, F1, F2, and N helicopters, with a tail gearbox (TGB) control lever, part number (P/N) 350A33-1058-00, P/N 350A33-1058-01, P/N 350A33-1058-02, or P/N 350A33-1058-03, both with and without an “X” marked near the P/N, installed, certificated in any category.

(b) Unsafe Condition

This AD defines the unsafe condition as a crack in the TGB control lever. This condition could result in failure of the TGB control lever, loss of tail rotor control, and subsequent loss of control of the helicopter.

(c) Affected ADs

This AD supersedes AD 2010-11-51, Amendment 39-16396 (75 FR 50874, August 18, 2010).

(d) Comments Due Date

We must receive comments by August 16, 2013.

(e) Compliance

You are responsible for performing each action required by this AD within the specified compliance time unless it has already been accomplished prior to that time.

(f) Required Actions

(1) For helicopters with a lever not marked with an “X” near the P/N, within 10 hours time-in-service (TIS), and thereafter at intervals not to exceed 10 hours TIS, using a mirror and appropriate light source, visually inspect the TGB control lever for a crack as shown in area “A” of Figure 2 of Eurocopter Emergency Alert Service Bulletin (EASB), Revision 2, dated February 28, 2011, No. 05.00.62 for Model AS350 helicopters and No. 05.00.57 for Model AS355 helicopters (EASB). If there is a crack, before further flight, replace each cracked TGB control lever with a TGB control lever with a P/N not listed in paragraph (a) of this AD.

(2) For Model AS355N helicopters, within 110 hours TIS, or if the helicopter has reached 100 or more hours TIS, within the next 10 hours TIS, and thereafter at intervals not to exceed 110 hours TIS, using a mirror and appropriate light source, inspect each TGB control lever for a crack as shown in area “C” of Figure 8 of the EASB.

(3) Within 660 hours TIS, replace each TGB control lever with a reworked TGB control lever marked with an “X” near the P/N or with a TGB control lever with a P/N not listed in paragraph (a) of this AD.

(4) For all model helicopters except Model AS355N, within 660 hours TIS, or if the helicopter has reached 605 or more hours TIS within the next 55 hours TIS, and thereafter at intervals not to exceed 660 hours TIS, using a mirror and appropriate light source, inspect each TGB control lever for a crack as shown in area “C” of figure 8 of the EASB.

(5) If there is a crack, before further flight, replace each cracked TGB control lever with a TGB control lever with a P/N not listed in paragraph (a) of this AD.

(g) Alternative Methods of Compliance (AMOCs)

(1) The Manager, Safety Management Group, FAA, may approve AMOCs for this AD. Send your proposal to: Robert Grant, Aviation Safety Engineer, FAA, Rotorcraft Directorate, Safety Management Group, 2601 Meacham Blvd., Fort Worth, TX 76137, telephone (817) 222-5110, email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Eurocopter Alert Service Bulletin No. 05.00.62 and No. 05.00.57, Revision 2, dated February 28, 2011, are co-published as one document along with EASB No. 05.00.38 and EASB No. 05.00.35, which are not incorporated by reference in this AD.

(2) For service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(3) The subject of this AD is addressed in European Aviation Safety Agency Emergency AD No. 2011-0038-E, dated March 4, 2011.

(i) Subject

Joint Aircraft Service Component (JASC) Code: 6720 Tail Rotor Control System.

Issued in Fort Worth, Texas, on May 28, 2013.
Kim Smith,
Directorate Manager, Rotorcraft Directorate, Aircraft Certification Service.

[FR Doc. 2013-14279 Filed 6-14-13; 8:45 am]

BILLING CODE 4910-13-P